LEGAL SERVICES CORPORATION

Notice of Intent To Award—Grant Awards for the Provision of Civil Legal Services to Eligible Low-Income Clients Beginning January 1, 2008

AGENCY: Legal Services Corporation.

ACTION: Announcement of intention to make FY 2008 Competitive Grant Awards.

SUMMARY: The Legal Services Corporation (LSC) hereby announces its intention to award grants and contracts to provide economical and effective delivery of high quality civil legal services to eligible low-income clients, beginning January 1, 2008.

DATES: All comments and recommendations must be received on or before the close of business on December 19, 2007.

ADDRESSES: Legal Services Corporation—Competitive Grants, Legal Services Corporation; 3333 K Street, NW., Third Floor; Washington, DC 2007.

FOR FURTHER INFORMATION CONTACT: Reginald Haley, Office of Program Performance, at (202) 295-1545, or haleyr@lsc.gov.

SUPPLEMENTARY INFORMATION: Pursuant to LSC's announcement of funding availability on April 13, 2007 (72 FR 18690), and Grant Renewal applications due on June 14, 2007, LSC intends to award funds to the following organizations to provide civil legal services in the indicated service areas. Amounts are subject to change.

Service area | Applicant name | Grant amount
Alabama:
AL-4 | Legal Services Alabama, Inc | $6,194,159
MAL | Texas RioGrande Legal Aid, Inc | 31,723
Alaska:
AK-1 | Alaska Legal Services Corporation | 717,081
NAK-1 | Alaska Legal Services Corporation | 522,566
Arizona:
AZ-2 | DNA-Peoples Legal Services, Inc | 520,360
AZ-3 | Community Legal Services, Inc | 3,755,950
AZ-5 | Southern Arizona Legal Aid, Inc | 1,811,524
MAZ | Community Legal Services, Inc | 143,149
NAZ-5 | DNA-Peoples Legal Services, Inc | 2,521,402
NAZ-6 | Southern Arizona Legal Aid, Inc | 615,905
Arkansas:
AR-6 | Legal Aid of Arkansas, Inc | 1,442,661
AR-7 | Center for Arkansas Legal Services | 2,153,508
MAR | Texas RioGrande Legal Aid, Inc | 76,207
California:
CA-1 | California Indian Legal Services, Inc | 32,757
CA-2 | Greater Bakersfield Legal Assistance, Inc | 910,038
CA-12 | Inland Counties Legal Services, Inc | 4,043,496
CA-14 | Legal Aid Society of San Diego, Inc | 2,827,558
CA-19 | Legal Aid Society of Orange County, Inc | 3,949,336
CA-26 | Central California Legal Services | 2,847,151
CA-27 | Legal Services of Northern California, Inc | 3,518,106
CA-28 | Bay Area Legal Aid | 4,147,448
CA-29 | Legal Aid Foundation of Los Angeles | 7,863,346
CA-30 | Neighborhood Legal Services of Los Angeles County | 4,644,807
CA-31 | California Rural Legal Assistance, Inc | 4,641,722
MCA | California Rural Legal Assistance, Inc | 2,545,202
NCA-1 | California Indian Legal Services, Inc | 853,675
Colorado:
CO-6 | Colorado Legal Services | 3,325,621
MCO | Colorado Legal Services | 143,193
NCO-1 | Colorado Legal Services | 92,795
Connecticut:
CT-1 | Statewide Legal Services of Connecticut, Inc | 2,298,378
NCT-1 | Pine Tree Legal Assistance, Inc | 15,127
Delaware:
DE-1 | Legal Services Corporation of Delaware, Inc | 599,465
MDE | Legal Aid Bureau, Inc | 23,937
District of Columbia:
DC-1 | Neighborhood Lgl. Svcs. Program of the Dist. of Col. | 976,561
Florida:
FL-5 | Legal Services of Greater Miami, Inc | 3,423,045
FL-13 | Legal Services of North Florida, Inc | 1,405,569
FL-14 | Three Rivers Legal Services, Inc | 1,731,241
FL-15 | Community Legal Services of Mid-Florida, Inc | 2,988,418
FL-16 | Bay Area Legal Services, Inc | 2,535,686
FL-17 | Florida Rural Legal Services, Inc | 2,669,506
FL-18 | Coast to Coast Legal Aid of South Florida, Inc | 1,794,874
MFL | Florida Rural Legal Services, Inc | 865,911
Georgia:
GA-1 | Atlanta Legal Aid Society, Inc | 2,496,865
GA-2 | Georgia Legal Services Program | 6,344,861
MGA | Georgia Legal Services Program | 378,014
Guam:
GU-1 | Guam Legal Services Corporation | 310,288
Hawaii:
HI-1 | Legal Aid Society of Hawaii | 1,275,228
MHI | Legal Aid Society of Hawaii | 66,442
NHI-1 | Native Hawaiian Legal Corporation | 221,338
Idaho:
ID-1 | Idaho Legal Aid Services, Inc | 1,146,232
MID | Idaho Legal Aid Services, Inc | 180,213
NID-1 | Idaho Legal Aid Services, Inc | 62,776
Illinois:
IL-3 | Land of Lincoln Legal Assistance Foundation, Inc | 2,386,562
IL-6 | Legal Assistance Foundation of Metro. Chicago | 6,229,752
IL-7 | Prairie State Legal Services, Inc | 2,665,154
MIL | Legal Assistance Foundation of Metro. Chicago | 240,680
Indiana:
IN-5 | Indiana Legal Services, Inc | 4,880,056
MIN | Indiana Legal Services, Inc | 109,625
Iowa:
IA-3 | Iowa Legal Aid | 2,264,631
MIA | Iowa Legal Aid | 36,378
Kansas:
KS-1 | Kansas Legal Services, Inc | 2,287,952
MKS | Kansas Legal Services, Inc | 11,460
Kentucky:
KY-2 | Legal Aid Society | 1,136,065
KY-5 | Appalachian Res. and Defense Fund of Kentucky | 1,960,479
KY-9 | Kentucky Legal Aid | 1,177,670
KY-10 | Legal Aid of the Bluegrass | 1,223,911
MKY | Texas RioGrande Legal Aid, Inc | 41,033
Louisiana:
LA-1 | Capital Area Legal Services Corporation | 1,366,338
LA-10 | Acadiana Legal Service Corporation | 1,935,365
LA-11 | Legal Services of North Louisiana, Inc | 1,815,850
LA-12 | Southeast Louisiana Legal Services Corporation | 2,446,431
MLA | Texas RioGrande Legal Aid, Inc | 26,550
Maine:
ME-1 | Pine Tree Legal Assistance, Inc | 1,139,240
MMX-1 | Pine Tree Legal Assistance, Inc | 120,416
NME-1 | Pine Tree Legal Assistance, Inc | 62,279
Maryland:
MD-1 | Legal Aid Bureau, Inc | 3,824,613
MMD | Legal Aid Bureau, Inc | 87,659
Massachusetts:
MA-4 | Merrimack Valley Legal Services, Inc | 800,191
MA-10 | Massachusetts Justice Project, Inc | 1,454,397
MA-11 | Volunteer Lawyers Project of the Boston Bar Assoc | 1,963,315
MA-12 | New Center for Legal Advocacy, Inc | 880,028
Michigan:
MI-9 | Legal Services of Northern Michigan, Inc | 680,801
MI-12 | Legal Services of South Central Michigan | 1,231,866
MI-13 | Legal Aid and Defender Association, Inc | 3,689,294
MI-14 | Legal Services of Eastern Michigan | 1,321,121
MI-15 | Legal Aid of Western Michigan | 1,607,597
MMI | Legal Services of South Central Michigan | 580,362
NMI-1 | Michigan Indian Legal Services, Inc | 159,061
Micronesia:
MP-1 | Micronesian Legal Services, Inc | 1,590,295
Minnesota:
MN-1 | Legal Aid Service of Northeastern Minnesota | 402,923
MN-4 | Legal Services of Northwest Minnesota Corporation | 361,122
MN-5 | Southern Minnesota Regional Legal Services, Inc | 1,173,577
MN-6 | Central Minnesota Legal Services, Inc | 1,262,697
MMN | Southern Minnesota Regional Legal Services, Inc | 192,904
NMN-1 | Anishinabe Legal Services, Inc | 230,916
Mississippi:
MS-9 | North Mississippi Rural Legal Services, Inc | 1,934,821
MS-10 | Mississippi Center for Legal Services | 2,898,120
MMS | Texas RioGrande Legal Aid, Inc | 55,026
NMS-1 | Mississippi Center for Legal Services | 80,322
Missouri:
MO-3 | Legal Aid of Western Missouri | 1,712,138
MO-4 | Legal Services of Eastern Missouri, Inc | 1,890,273
MO-5 | Mid-Missouri Legal Services Corporation | 376,819
MO-7 | Legal Services of Southern Missouri | 1,631,168
MMO | Legal Aid of Western Missouri | 78,544
Montana:
MT-1 | Montana Legal Services Association | 1,092,089
MMT | Montana Legal Services Association | 52,627
NMT-1 | Montana Legal Services Association | 153,854
Nebraska:
NE-4 | Legal Aid of Nebraska | 1,397,489
MNE | Legal Aid of Nebraska | 40,766
NNE-1 | Legal Aid of Nebraska | 31,940
Nevada:
NV-1 | Nevada Legal Services, Inc | 1,831,947
MNV | Nevada Legal Services, Inc | 2,426
NNV-1 | Nevada Legal Services, Inc | 128,487
New Hampshire:
NH-1 | Legal Advice & Referral Center, Inc | 690,772
New Jersey:
NJ-8 | Essex-Newark Legal Services Project, Inc | 1,048,148
NJ-12 | Ocean-Monmouth Legal Services, Inc | 641,988
NJ-15 | Legal Services of Northwest Jersey | 378,763
NJ-16 | South Jersey Legal Services, Inc | 1,289,417
NJ-17 | Central Jersey Legal Services, Inc | 1,052,474
NJ-18 | Northeast New Jersey Legal Services Corporation | 1,712,762
MNJ | South Jersey Legal Services, Inc | 116,340
New Mexico:
NM-1 | DNA-Peoples Legal Services, Inc | 209,287
NM-5 | New Mexico Legal Aid | 2,640,049
MNM | New Mexico Legal Aid | 84,207
NNM-2 | DNA-Peoples Legal Services, Inc | 21,952
NNM-4 | New Mexico Legal Aid | 448,960
New York:
NY-7 | Nassau/Suffolk Law Services Committee, Inc | 1,341,108
NY-9 | Legal Services for New York City | 14,721,878
NY-20 | Legal Services of the Hudson Valley | 1,725,088
NY-21 | Legal Aid Society of Northeastern New York, Inc | 1,295,651
NY-22 | Legal Aid Society of Mid-New York, Inc | 1,698,288
NY-23 | Legal Assistance of Western New York, Inc | 1,664,791
NY-24 | Neighborhood Legal Services, Inc | 1,296,346
MNY | Legal Aid Society of Mid-New York, Inc | 266,882
North Carolina:
NC-5 | Legal Aid of North Carolina, Inc | 8,032,991
MNC | Legal Aid of North Carolina, Inc | 516,748
NNC-1 | Legal Aid of North Carolina, Inc | 210,882
North Dakota:
ND-3 | Legal Services of North Dakota | 543,360
MND | Southern Minnesota Regional Legal Services, Inc | 111,756
NND-3 | Legal Services of North Dakota | 260,282
Ohio:
OH-5 | The Legal Aid Society of Columbus | 1,229,387
OH-17 | Ohio State Legal Services | 1,646,749
OH-18 | Legal Aid Society of Greater Cincinnati | 1,388,723
OH-20 | Community Legal Aid Services, Inc | 1,606,732
OH-21 | The Legal Aid Society of Cleveland | 2,044,258
OH-23 | Legal Aid of Western Ohio, Inc | 2,403,409
MOH | Legal Aid of Western Ohio, Inc | 121,450
Oklahoma:
OK-3 | Legal Aid Services of Oklahoma, Inc | 4,320,679
MOK | Legal Aid Services of Oklahoma, Inc | 60,333
NOK-1 | Oklahoma Indian Legal Services, Inc | 791,159
Oregon:
OR-6 | Legal Aid Services of Oregon | 2,929,860
MOR | Legal Aid Services of Oregon | 537,064
NOR-1 | Legal Aid Services of Oregon | 178,371
Pennsylvania:
PA-1 | Philadelphia Legal Assistance Center | 2,959,139
PA-5 | Laurel Legal Services, Inc | 735,176
PA-8 | Neighborhood Legal Services Association | 1,602,505
PA-11 | Southwestern Pennsylvania Legal Services, Inc | 534,121
PA-23 | Legal Aid of Southeastern Pennsylvania | 1,086,577
PA-24 | North Penn Legal Services, Inc | 1,733,337
PA-25 | MidPenn Legal Services, Inc | 2,120,537
PA-26 | Northwestern Legal Services | 699,396
MPA | Philadelphia Legal Assistance Center | 159,799
Puerto Rico:
PR-1 | Puerto Rico Legal Services, Inc | 15,608,934
PR-2 | Community Law Office, Inc | 330,452
MPR | Puerto Rico Legal Services, Inc | 280,322
Rhode Island:
RI-1 | Rhode Island Legal Services, Inc | 1,073,387
South Carolina:
SC-8 | South Carolina Legal Services, Inc | 4,695,383
MSC | South Carolina Legal Services, Inc | 190,710
South Dakota:
SD-2 | East River Legal Services | 389,661
SD-4 | Dakota Plains Legal Services, Inc | 461,784
MSD | Dakota Plains Legal Services, Inc | 3,826
NSD-1 | Dakota Plains Legal Services, Inc | 902,194
Tennessee:
TN-4 | Memphis Area Legal Services, Inc | 1,370,636
TN-7 | West Tennessee Legal Services, Inc | 639,447
TN-9 | Legal Aid of East Tennessee | 2,093,683
TN-10 | Lgl. Aid Soc. of Middle Tenn. and the Cumberlands | 2,495,215
MTN | Texas RioGrande Legal Aid, Inc | 61,153
Texas:
TX-13 | Lone Star Legal Aid | 9,247,199
TX-14 | Legal Aid of NorthWest Texas | 7,295,862
TX-15 | Texas RioGrande Legal Aid, Inc | 9,921,650
MTX | Texas RioGrande Legal Aid, Inc | 1,339,253
NTX-1 | Texas RioGrande Legal Aid, Inc | 30,241
Utah:
UT-1 | Utah Legal Services, Inc | 1,774,709
MUT | Utah Legal Services, Inc | 65,398
NUT-1 | Utah Legal Services, Inc | 79,494
Vermont:
VT-1 | Legal Services Law Line of Vermont, Inc | 487,210
Virgin Islands:
VI-1 | Legal Services of the Virgin Islands, Inc | 311,527
Virginia:
VA-15 | Southwest Virginia Legal Aid Society, Inc | 791,148
VA-16 | Legal Aid Society of Eastern Virginia | 1,366,739
VA-17 | Virginia Legal Aid Society, Inc | 823,566
VA-18 | Central Virginia Legal Aid Society, Inc | 970,897
VA-19 | Blue Ridge Legal Services, Inc | 685,028
MVA | Central Virginia Legal Aid Society, Inc | 152,067
Washington:
WA-1 | Northwest Justice Project | 4,757,580
MWA | Northwest Justice Project | 703,757
NWA-1 | Northwest Justice Project | 275,255
West Virginia:
WV-5 | Legal Aid of West Virginia, Inc | 2,781,120
MWV | Legal Aid of West Virginia, Inc | 35,245
Wisconsin:
WI-2 | Wisconsin Judicare, Inc | 849,376
WI-5 | Legal Action of Wisconsin, Inc | 3,089,820
MWI | Legal Action of Wisconsin, Inc | 87,783
NWI-1 | Wisconsin Judicare, Inc | 149,888
Wyoming:
WY-4 | Wyoming Legal Services, Inc | 476,526
MWY | Wyoming Legal Services, Inc | 11,995
NWY-1 | Wyoming Legal Services, Inc | 166,972

These grants and contracts will be awarded under the authority conferred on LSC by the Legal Services Corporation Act, as amended (42 U.S.C. 2996e(a)(1)). Awards will be made so that each service area is served, although none of the listed organizations are guaranteed an award or contract. This public notice is issued pursuant to the LSC Act (42 U.S.C. 2996f(f)), with a request for comments and recommendations concerning the potential grantees within a period of thirty (30) days from the date of publication of this notice. Grants will become effective and grant funds will be distributed on or about January 1, 2008.

Dated: November 13, 2007.
Michael A. Genz,
Director, Office of Program Performance, Legal Services Corporation.

[FR Doc. E7-22539 Filed 11-16-07; 8:45 am]

BILLING CODE 7050-01-P